DEPARTMENT OF ENERGY

Western Area Power Administration

Pick-Sloan Missouri Basin Program—Eastern Division—Notice of Proposed Transmission and Ancillary Services Rates—Rate Order No. WAPA-122

AGENCY: Western Area Power Administration, DOE.

ACTION: Notice of Proposed Transmission and Ancillary Services Rates.

SUMMARY: The Western Area Power Administration (Western) is proposing a minor transmission and ancillary services rate adjustment for the Pick-Sloan Missouri Basin Program—Eastern Division (P-SMBP—ED). The P-SMBP—ED transmission and ancillary service rate schedules will expire on September 30, 2005. The proposed rates will provide sufficient revenue to pay all annual costs, including interest expense, and repayment of required investment within the allowable periods. Western will prepare a brochure providing detailed information on the rates to all interested parties. Western intends to conduct the public participation according to the minor rate adjustment process as defined in the Department of Energy's (DOE) Procedures for Public Participation in Power and Transmission Rate Adjustments and Extensions. Western expects the proposed rates to go into effect October 1, 2005, and remain in effect through September 30, 2010. Publication of this Federal Register notice begins the formal process for the proposed rates.

DATES: The consultation and comment period begins today and will end May 18, 2005. Western will accept written comments anytime during the consultation and comment period.

ADDRESSES: Send written comments to Robert J. Harris, Regional Manager, Upper Great Plains Region, Western Area Power Administration, 2900 4th Avenue North, Billings, MT 59101-1266, or e-mail at UGP_ISRate@wapa.gov. Western will post information about the rate process on its Web site at http://www.wapa.gov/ugp/rates/2005ISRateAdj/default.htm. Western will post official comments received via letter and e-mail to its Web site after the close of the comment period. Western must receive written comments by the end of the consultation and comment period to ensure they are considered in Western's decision process.

FOR FURTHER INFORMATION CONTACT: Mr. Jon R. Horst, Rates Manager, Upper Great Plains Region, Western Area Power Administration, 2900 4th Avenue North, Billings, MT 59101-1266, telephone (406) 247-7444, e-mail horst@wapa.gov.

SUPPLEMENTARY INFORMATION: The Deputy Secretary of Energy approved Rate Schedules UGP-FPT1, UGP-NFPT1, UGP-NT1, UGP-AS1, UGP-AS2, UGP-AS3, UGP-AS4, UGP-AS5, and UGP-AS6 for P-SMBP—ED firm and non-firm transmission rates and ancillary services rates on August 1, 1998, Rate Order No. WAPA-79. The Federal Energy Regulatory Commission (Commission) confirmed and approved the rate schedules on November 25, 1998, under FERC Docket No. EF98-5031-000. These rate schedules were then extended through September 30, 2005, by Rate Order No. WAPA-100, which was confirmed and approved by the Commission on December 16, 2003, under FERC Docket No. EF03-5032-000. The rate schedules for Rate Order No. WAPA-79 and Rate Order No. WAPA-100 contain formulary rates that are recalculated yearly using the fixed charge rate methodology. The proposed formulary rates will continue to use the fixed charge rate methodology and will continue to be recalculated from yearly updated financial and load data. However, the Generator Step Up Transformers are proposed for removal from the transmission revenue requirement. After the approval of the original transmission and ancillary service rates for P-SMBP—ED the Commission decided that Generator Step Up Transformers should not be included in transmission rates for jurisdictional utilities. Consistent with Western's goal to observe Commission precedent to the extent consistent with its mission and permitted by law and regulation, the transmission and ancillary services rates are being modified. The removal of the Generator Step Up Transformers will produce less than a 1-percent change in the annual revenues for the P-SMBP—ED under Rate Order No. WAPA-100 based on the 2004-2005 rate calculation. Therefore, Western intends to conduct the public participation according to a minor rate adjustment process as defined in the DOE Procedures for Public Participation in Power and Transmission Rate Adjustments and Extensions. Western intends for the proposed rate to go into effect October 1, 2005, and remain in effect through September 30, 2010.

Under Rate Schedule UGP-FPT1, the 2004-2005 existing rate for Long-Term Firm and Short-Term Firm Point-to-Point Transmission Service is $2.72 per kilowattmonth (kWmonth). The proposed rate for Long-Term Firm and Short-Term Firm Point-to-Point Transmission Service is $2.69/KWmonth. Under Rate Schedule UGP-NFPT1, the existing rate calculation for Non-Firm Point-to-Point Transmission Service is 3.73 mills per kilowatthour (kWh). The proposed rate for Non-Firm Point-to-Point Transmission Service is 3.68 mills per kWh. Under Rate Schedule UGP-NT1 the existing annual revenue requirement for Network Integration Transmission Service is $128,017,923. The proposed annual revenue requirement for Network Integration Transmission service is $126,741,576.

Under Rate Schedule UGP-AS1, the existing rate for Scheduling System Control and Dispatch (Scheduling and Dispatch) Service is $49.29/schedule/day. The proposed rate for Scheduling and Dispatch Service is $49.77/schedule/day. Under Rate Schedule UGP-AS2, the existing rate for Reactive Supply and Voltage Control from Generation Sources (Reactive) Service is $0.06/kWmonth. The propose rate for Reactive Service is $0.07/kWmonth. Under Rate Schedule UGP-AS3, the existing rate calculated for Regulation and Frequency Response (Regulation) Service is $0.04/kWmonth. The proposed rate for Regulation Service is $0.05/kWmonth. Under Rate Schedule UGP-AS4, there is no change in the rate for Energy Imbalance Service between the existing and the proposed rates. Under Rate Schedules UGP-AS5 and UGP-AS6, the existing rate calculated for Reserves is $0.11/kWmonth. The proposed rate for Reserves is $0.12/kWmonth.

The impact to total transmission rates, including firm/non-firm/network and ancillary services is less than a 1-percent change in annual revenues. The proposed rates will result in a decrease of 0.5765 percent in annual revenues. The revenue requirements for the individual services and comparison values are outlined in the following table.

Service | Existing revenue requirement | Proposed revenue requirement | Percentage change
Transmission | $128,017,923 | $126,741,576 | −0.9970
Scheduling and Dispatch | 3,373,281 | 3,406,102 | 0.9729
Reactive | 2,736,253 | 3,065,568 | 12.0352
Reserves | 1,895,268 | 2,009,276 | 6.0154
Regulation | 1,065,771 | 1,075,623 | 0.9243

Legal Authority

Because the proposed removal of Generator Step Up Transformers results in less than a 1-percent change in annual transmission revenues for the P-SMBP—ED under Rate Order WAPA-100, the proposed rates constitute a minor rate adjustment as defined by 10 CFR part 903. Consistent with these regulations, Western has elected not to hold either a public information forum or a public comment forum. After review and consideration of public comments related to the proposed rate extension, Western will submit proposed rates to the Deputy Secretary of Energy for approval on an interim basis.

Western is establishing Integrated System Transmission and Ancillary Service Rates for P-SMBP—ED under the Department of Energy Organization Act (42 U.S.C. 7152); the Reclamation Act of 1902 (ch. 1093, 32 Stat. 388), as amended and supplemented by subsequent enactments, particularly section 9(c) of the Reclamation Project Act of 1939 (43 U.S.C. 485h(c)) and section 5 of the Flood Control Act of 1944 (16 U.S.C. 825s); and other acts specifically applicable to the projects involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand, or to disapprove such rates to the Commission. Existing DOE procedures for public participation in power rate adjustments (10 CFR part 903) were published on September 18, 1985 (50 FR 37835).

Availability of Information

All brochures, studies, comments, letters, memorandums, or other documents that Western initiates or uses to develop the proposed rates are available for inspection and copying at the Upper Great Plains Regional Office, located at 2900 4th Avenue North, Billings, Montana. Many of these documents and supporting information are also available on its Web site under the “2005 IS Rate Adjustment” section located at http://www.wapa.gov/ugp/rates/2005ISRateAdj/default.htm.

Regulatory Procedure Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. This action does not require a regulatory flexibility analysis since it is a rulemaking of particular applicability involving rates or services applicable to public property.

Environmental Compliance

In compliance with the National Environmental Policy Act of 1969 (NEPA) (42 U.S.C. 4321, et seq.); Council on Environmental Quality Regulations (40 CFR part 1500-1508); and DOE NEPA Regulations (10 CFR part 1021), Western has determined this action is categorically excluded from preparing an environmental assessment or an environmental impact statement.

Determination Under Executive Order 12866

Western has an exemption from centralized regulatory review under Executive Order 12866; accordingly, no clearance of this notice by the Office of Management and Budget is required.

Small Business Regulatory Enforcement Fairness Act

Western has determined that this rule is exempt from congressional notification requirements under 5 U.S.C. 801 because the action is a rulemaking of particular applicability relating to rates or services and involves matters of procedure.

Dated: April 1, 2005.
Michael S. Hacskaylo,
Administrator.

[FR Doc. 05-7694 Filed 4-15-05; 8:45 am]

BILLING CODE 6450-01-P